DEPARTMENT OF TRANSPORTATION

Coast Guard

33 CFR Part 117

[CGD05-02-006]

Drawbridge Operation Regulations; Great Egg Harbor Bay, New Jersey

AGENCY: Coast Guard, DOT.

ACTION: Notice of temporary deviation from regulations.

SUMMARY: The Commander, Fifth Coast Guard District, has approved a temporary deviation from the regulations governing the operation of the Route 9/Beesleys Point Bridge across Great Egg Harbor Bay, mile 3.5, between Somers Point and Beesleys Point, in New Jersey. From March 11, 2002, through April 5, 2002, the bridge may remain in the closed position Monday through Friday from 7 a.m. to 5 p.m. However, on Saturday and Sunday the bridge will open on signal for marine traffic. This closure is necessary to conduct the emergency structural repairs to the bascule span.

DATES: This deviation is effective from 7 a.m. on March 11, 2002, until 5 p.m. on April 5, 2002.

FOR FURTHER INFORMATION CONTACT: Ann B. Deaton, Bridge Administrator, Fifth Coast Guard District, at (757) 398-6222.

SUPPLEMENTARY INFORMATION: The Coast Guard received a letter from the bridge manager, requesting a temporary deviation from the current operating schedule of the Route 9/Beesleys Point Bridge to undertake repairs. The draw currently is required to open on signal at all times. This requirement is included in the general operating regulations at 33 CFR 117.5. The work involves ironwork repairs to the bascule span of the bridge. To facilitate the repairs, the bascule span will be locked in the closed position so that concrete can undergo the curing process. This work requires completely immobilizing the operation of the bascule span. In the event of an emergency, openings of the span will be provided as quickly as possible, but may take up to 48 hours to accomplish. Requests for emergency openings can be made by calling the bridge manager at (609) 390-3190 or (609) 624-0949.

In accordance with 33 CFR 117.35, the District Commander approved the contractor's request for a temporary deviation from the governing regulations in a letter dated February 22, 2002.

The Coast Guard has informed the known commercial users of the waterway of the bridge closure so that these vessels can arrange their transits to minimize any impact caused by the temporary deviation.

The temporary deviation allows the Route 9/Beesleys Point Bridge across Great Egg Harbor, mile 3.5, between Somers Point and Beesleys Point, New Jersey to remain closed Monday through Friday from 7 a.m. on March 11, 2002, until 5 p.m. on April 5, 2002.

Dated: March 6, 2002.
Ann B. Deaton,
Chief, Bridge Administration Section, Fifth Coast Guard District.

[FR Doc. 02-6358 Filed 3-15-02; 8:45 am]

BILLING CODE 4910-15-P